DEPARTMENT OF HEALTH AND HUMAN SERVICES

Substance Abuse and Mental Health Services Administration

Center for Substance Abuse Treatment; Notice of Meeting

Pursuant to Public Law 92-463, notice is hereby given that the 36th meeting of the Substance Abuse and Mental Health Service Administration's (SAMHSA) Center for Substance Abuse Treatment (CSAT) National Advisory Council will be held in March 2003.

A portion of the meeting is open and includes discussion of the Center's policy issues and current administrative, legislative, and program developments. The Council's meeting will include reports on SAMHSA's Faith-Based and Community Initiative; Pregnant and Postpartum Women (PPW) & Residential Women and Children (RWC) Cross Site Evaluations; Oral Fluid Testing; Science to Services; Methadone Deaths; and SAMHSA's Co-Occurring Report to Congress. In addition, the CSAT Director will provide an update on CSAT's program and activities.

The meeting will also include the review, discussion, and evaluation of individual grant applications. Therefore a portion of the meeting will be closed to the public as determined by the SAMHSA Administrator, in accordance with title 5 U.S.C. 552b(c) and (6) and 5 U.S.C. App. 2, § 10(d).

SAMHSA/CSAT welcomes the attendance of the public at its advisory committee, and will make every effort to accommodate persons with physical disabilities or special needs. If you require special accommodations due to a disability, please inform the contact person at least 7 days in advance of the meeting. Substantive program information, a summary of the meeting and a roster of Council members may also be obtained from the contact person.

Committee Name: Center for Substance Abuse Treatment, National Advisory Council.

Meeting Dates: March 12—8:30 a.m.-5:30 p.m., March 13—9:30 a.m.-1 p.m.

Place: Embassy Suites Hotel, Chevy Chase Ballroom, 4300 Military Road, Washington, DC 20015.

Type:

Closed: March 12, 2003—8:30 a.m.-10 a.m., Open: March 12, 2003—10 a.m.-5:30 p.m., Open: March 13, 2003—9:30 a.m.-1 p.m.

Contact: Cynthia Graham, Public Health Analyst, SAMHSA/CSAT NAC, 5600 Fishers Lane, RW II, Ste 618, Rockville, MD 20857. (301) 443-8923. FAX: (301) 480-6077.

Dated: February 28, 2003.
Toian Vaughn,
Committee Management Officer, Substance Abuse and Mental Health Services Administration.

[FR Doc. 03-5349 Filed 3-6-03; 8:45 am]

BILLING CODE 4162-20-P